DEPARTMENT OF HOMELAND SECURITY

Coast Guard

33 CFR Part 165

[Docket No. USCG-2023-0368]

RIN 1625-AA11

Regulated Navigation Area; St. Louis River/Duluth-Superior Harbor, Duluth, MN

AGENCY: Coast Guard, DHS.

ACTION: Interim rule; request for comments.

SUMMARY: The Department of Homeland Security, United States Coast Guard, is establishing a Regulated Navigation Area for certain waters of the Duluth-Superior Harbor and the St. Louis River in Duluth, MN. This action is necessary to prevent disruption of an engineered sediment remediation project within one of the Great Lakes designated Areas of Concern (AOC); the St. Louis River. This interim rulemaking prohibits anchoring, spudding, dredging, dragging, or any other activity which could potentially disturb the riverbed in the designated area unless authorized by the District Commander or the Captain of the Port. We invite your comments on this interim rulemaking.

DATES: This interim rule is effective April 8, 2024. Comments and related material must be received by the Coast Guard on or before May 6, 2024.

ADDRESSES: You may submit comments identified by docket number USCG-2023-0368 using the Federal Decision Making Portal at https://www.regulations.gov. See the “Public Participation and Request for Comments” portion of the SUPPLEMENTARY INFORMATION section for further instructions on submitting comments.

FOR FURTHER INFORMATION CONTACT: For information about this document call or email LT Joseph McGinnis, Coast Guard; telephone 218-725-3818, email MSUDuluthWWM@uscg.mil.

SUPPLEMENTARY INFORMATION:

Table of Contents for Preamble

I. Abbreviations

II. Basis and Purpose, and Regulatory History

III. Background

IV. Discussion of Comments and Changes

V. Discussion of the Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

VII. Public Participation and Request for Comments

I. Abbreviations

AOC Area of Concern

COTP Captain of the Port

CFR Code of Federal Regulations

DHS Department of Homeland Security

FR Federal Register

NPRM Notice of proposed rulemaking

OMB Office of Management and Budget

RNA Regulated Navigation Area

§ Section

U.S.C. United States Code

II. Basis and Purpose, and Background

The purpose of this rulemaking is to ensure the protection of the remedies, human health, and the environment in the Duluth Harbor. The Coast Guard is publishing this interim rulemaking under authority in 46 U.S.C. 70034 (previously 33 U.S.C. 1231).

In 2019, the Minnesota Pollution Control Agency (MPCA) began discussions with the Coast Guard and other stakeholders to explore establishing Regulated Navigation Areas (RNAs) for some of the project sites within the St. Louis River Area of Concern (AOC) to prevent disrupting engineered remedies from consequential human caused disturbance at specific remedial action sites that contain known contaminated sediment. The Federal Great Lakes Restoration Initiative funded these remedial actions under the Great Lakes Legacy Act provisions in order to mitigate risks to human and environmental health by reducing exposure to contaminated riverbed sediments. To prevent future exposure to the contained contaminants, the engineered remedies must be protected from disturbance. In 2022, the MPCA notified the Coast Guard of the sites and areas that would be appropriate for an RNA. The Captain of the Port (COTP) of Duluth has determined that protection of these remedies is appropriate and necessary to protect human and environmental health.

A Notice of Proposed Rulemaking (NPRM) was published on August 23, 2023. 88 FR 57378. The Coast Guard distributed the NPRM through the Harbor Technical Advisory Council and sent emails to local stakeholders. Seven responses were received during the comment period. These comments, our responses to them, and the changes that have been made to the proposed rule are discussed in further detail below.

III. Discussion of Comments and Changes to the Proposed Rule

The Coast Guard received seven comments in response to the NPRM. One comment was in full support of the proposed rule, while the other six brought forward a number of stakeholder concerns.

The primary request shared by most commenters is that the Coast Guard should withdraw the proposed rule and engage with affected parties before moving forward. The Coast Guard acknowledges these concerns but will not be withdrawing this rulemaking. Our priority in this matter is the protection of the engineered remedies that are a part of the St. Louis River AOC sediment remediation project and withdrawing this rule would leave them vulnerable to disturbance. In recognition of these concerns, the Coast Guard will continue to accept public comments on this RNA. We encourage stakeholders to provide the Coast Guard with more information on the impact of the RNA on operations in the Duluth Superior Harbor.

One commenter recommended that the Coast Guard remove propeller scouring from the list of prohibited activities within the RNA. We agree with this commenter and have removed propeller scouring from the list of prohibited activities to mitigate the impact of the RNA on port operations. The engineered remedies of the sediment cap are designed to protect against disturbances caused by normal propeller scouring.

One commenter argued that this rule is premature because there are continuing remediation efforts in Minnesota and Wisconsin waters that may also require protection. We disagree with this comment. The Coast Guard's priority in this matter is preventing any disturbance of the remediation project that protects the environment from contaminated sediments. Our mission of environmental protection is best served by the immediate protection of these remedies. The protection of other remediation projects can be addressed in a separate rulemaking or by revising the geographical boundary of this rule.

Another commenter alleged that this rule is vague and not implementable because it fails to specify what entities must be consulted in order for the COTP to grant a waiver. We disagree with this comment. The COTP has the authority to grant a waiver and may consult with private, state, and Federal entities to assist in making a decision. This language gives the COTP sufficient time to review and act in accordance with the Ports and Waterways Safety Act.

Some commenters requested that the Cost Guard modify the waiver process for this RNA to include a timeline for a decision and an appeal process. The Coast Guard declines to impose a COTP response deadline. However, we have incorporated into this regulation a requirement for these waivers to be submitted 120 days prior to operation in order to give sufficient time for adequate review. The appeals process is addressed in 33 CFR 160.7.

One commenter recommended the addition of language that would exclude recreational anglers from the limitations imposed by the RNA. The Coast Guard disagrees with this recommendation. Anchoring in the RNA is an environmental risk, regardless of the type of vessel. Fishing without anchoring or disturbance of any bottom substrate is authorized within the RNA.

One commenter asked that we provide a specific exemption for cruise ship traffic. The Coast Guard declines to exempt cruise ship traffic from the requirements of the RNA as doing so would jeopardize the engineered remedies, and therefore place the environmental health of the harbor at risk. That being said, it is our intention to mitigate the impact of this RNA on the growing cruise ship sector and we encourage stakeholders to provide more information during the comment period for this interim rule.

One commenter took issue with the way the proposed rule described the relationship between Indian tribes and the U.S. Government. We made the recommended changes to address this in section VI.J. below.

The notable changes between this interim rule and the proposed rule is the exclusion of propeller scouring from the list of prohibited activities, a waiver submission timeline, and the addition of an exemption for emergency circumstances out of the control of the vessel and operator.

V. Discussion of the Rule

Coast Guard District Nine is establishing the RNA in order to prevent any potential disruption to the remediated St. Louis River AOC sites. The RNA will cover these six remediation sites: Minnesota Slip, Duluth, MN; Slip 3, Duluth, MN; Slip C, Duluth, MN; Azcon/Duluth Seaway Port Authority Grafield Slip C, Duluth, MN; St. Louis River/Interlake/Duluth Tar, Duluth, MN; U.S. Steel/Spirit Lake, Duluth, MN. Specific coordinates are included in the supplemental regulatory text.

All vessels and persons are prohibited from activities that would disturb the integrity of the engineered remedies designed to address contaminated sediments at these sites unless receiving approval from the COTP through the waiver process or in emergency situations. Activities may include, but are not limited to: anchoring, dragging, spudding, or dredging. The creation of this RNA will render the need for established safety zones at two sites obsolete, so this rulemaking also repeals § 165.905 USX Superfund Site Safety Zones: St. Louis River and § 165.927 Safety Zone; St. Louis River, Duluth/Interlake Tar Remediation Site, Duluth, MN.

VI. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The Office of Management and Budget (OMB) has not designated this rule a significant regulatory action under section 3(f) of Executive Order 12866, as amended by Executive Order 14094 (Modernizing Regulatory Review). Accordingly, this rule has not been reviewed by the Office of Management and Budget.

B. Small Entities

Under the Regulatory Flexibility Act, 5 U.S.C. 601-612, we have considered whether this rule would have a significant economic impact on a substantial number of small entities. The term “small entities” comprises small businesses, not-for-profit organizations that are independently owned and operated and are not dominant in their fields, and governmental jurisdictions with populations of less than 50,000.

While some owners or operators of vessels intending to transit the RNA may be small entities, for the reasons stated in section IV.A above, this interim rule would not have a significant economic impact on any vessel owner or operator. If you think that your business, organization, or governmental jurisdiction qualifies as a small entity and that this proposed rule would have a significant economic impact on it, please submit a comment (see ADDRESSES) explaining why you think it qualifies and how and to what degree this proposed rule would economically affect it. Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995, 44 U.S.C. 3501-3520.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132. Our analysis follows.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See the Supreme Court's decision in United States v. Locke and Intertanko v. Locke, 529 U.S. 89, 120 S.Ct. 1135 (2000). Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this rule has implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes. Nothing in this proposed rule will preempt the rights to hunt, fish, and gather retained by Indian tribes under either the 1842 or 1854 Treaty with the U.S. If you believe this proposed rule has implications for federalism or Indian tribes, please call or email the person listed in the FOR FURTHER INFORMATION CONTACT section.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. For instructions on locating the docket, see the ADDRESSES section of this preamble. This rule is categorically excluded under paragraph L[60a] of Appendix A, Table 1 of DHS Instruction Manual 023-01-001-01, Rev 1. We seek any comments or information that may lead to the discovery of a significant environmental impact from this interim rule.

VII. Public Participation and Request for Comments

The Coast Guard views public participation as essential to effective rulemaking, and will consider all comments and material received on this interim rule during the comment period. Your comment can help shape the outcome of this rulemaking. If you submit a comment, please include the docket number for this interim rule, indicate the specific section of this document to which each comment applies, and provide a reason for each suggestion or recommendation.

Submitting comments. We encourage you to submit comments through the Federal Decision Making Portal at https://www.regulations.gov. To do so, go to https://www.regulations.gov, type USCG-2023-0368 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this interim rule as being available in the docket, find the docket as described in the previous paragraph, and then select “Supporting & Related Material” in the Document Type column. Public comments will also be placed in our online docket and can be viewed by following instructions on the https://www.regulations.gov Frequently Asked Questions web page. We review all comments received, but we will only post comments that address the topic of the inrweim rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Public meeting. We are not planning to hold a public meeting but will consider doing so if we determine from public comments that a meeting would be helpful. We would issue a separate Federal Register notice to announce the date, time, and location of such a meeting. For information on facilities or services for individuals with disabilities or to request special assistance at the public meeting, call or email the person listed in the FOR FURTHER INFORMATION CONTACT section of this notice.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.945 to Subpart F to read as follows:

§ 165.945 Regulated navigation area; St. Louis River Area of Concern, Duluth, Minnesota.

(a) Location. The following areas are a regulated navigation area:

Table 1 to § 165.945
Number | Site name | Regulated area (Note: all geographic coordinates expressed in term of latitude and longitude datum are based on WGS 84 coordinates)
1 | Minnesota Slip, Duluth, MN | The aquatic area within a polygon connected by the following points:
|  | • 46°46′53.4268″ N 092°05′45.2210″ W
|  | • 46°46′53.1146″ N 092°05′46.1287″ W
|  | • 46°46′52.1716″ N 092°05′45.4669″ W
|  | • 46°46′51.8253″ N 092°05′46.6317″ W
|  | • 46°46′52.1940″ N 092°05′46.7526″ W
|  | • 46°47′01.7900″ N 092°05′50.8326″ W
|  | • 46°47′00.8887″ N 092°05′52.4477″ W
2 | Slip 3, Duluth, MN | The aquatic area within a polygon connected by the following points:
|  | • 46°46′34.9277″ N 092°06′18.2902″ W
|  | • 46°46′36.8355″ N 092°06′18.7654″ W
|  | • 46°46′38.5299″ N 092°06′21.5290″ W
|  | • 46°46′37.6368″ N 092°06′22.6961″ W
3 | Slip C, Duluth, MN | The aquatic area to the southwest of a line connected by the following points:
|  | • 46°46′22.1579″ N 092°06′31.4489″ W
|  | • 46°46′21.0546″ N 092°06′27.9639″ W
4 | Azcon/Duluth Seaway Port Authority Garfield Slip C, Duluth, MN | The aquatic area within a polygon connected by the following points: • 46°45′41.9081″ N 092°06′11.5069″ W
|  | • 46°45′41.7040″ N 092°06′11.5337″ W
|  | • 46°45′41.2503″ N 092°06′12.6746″ W
|  | • 46°45′40.8467″ N 092°06′12.3733″ W
|  | • 46°45′40.3784″ N 092°06′13.6404″ W
|  | • 46°45′40.1196″ N 092°06′13.7025″ W
|  | • 46°45′39.3277″ N 092°06′13.0539″ W
|  | • 46°45′37.0413″ N 092°06′19.3995″ W
|  | • 46°45′37.8242″ N 092°06′19.9225″ W
|  | • 46°45′38.2401″ N 092°06′19.8461″ W
|  | • 46°45′38.7466″ N 092°06′20.2255″ W
5 | St. Louis River/Interlake/Duluth Tar, Duluth, MN | The aquatic area north of a line connected by the following points: • 46°43′12.8964″ N 092°10′30.7956″ W
|  | • 46°43′12.1656″ N 092°10′28.1136″ W
|  | • 46°43′09.3576″ N 092°10′26.0256″ W
|  | • 46°43′09.2748″ N 092°10′25.9932″ W
|  | • 46°43′08.8500″ N 092°10′25.6872″ W
|  | • 46°43′08.8320″ N 092°10′21.8352″ W
|  | • 46°43′08.0436″ N 092°10′19.5564″ W
|  | • 46°43′08.4936″ N 092°10′19.0236″ W
|  | • 46°43′09.3828″ N 092°10′21.4140″ W
|  | • 46°43′10.1640″ N 092°10′22.0224″ W
|  | • 46°43′10.8192″ N 092°10′21.6264″ W
|  | and the aquatic area to the north of a line connected by the following points:
|  | • 46°43′11.9208″ N 092°10′03.2772″ W
|  | • 46°43′12.1620″ N 092°10′01.6500″ W
|  | • 46°43′07.6872″ N 092°09′48.3840″ W
|  | • 46°43′08.1300″ N 092°09′42.4980″ W
|  | • 46°43′10.2072″ N 092°09′42.4620″ W
6 | U.S. Steel/Spirit Lake, Duluth, MN | The aquatic area to the west of a line connected by the following points:
|  | • 46°41′38.8208″ N 092°12′12.7736″ W
|  | • 46°41′39.6166″ N 092°12′08.8750″ W
|  | • 46°41′39.3879″ N 092°12′05.5895″ W
|  | • 46°41′39.2250″ N 092°12′04.3468″ W
|  | • 46°41′39.1231″ N 092°12′02.9108″ W
|  | • 46°41′38.9452″ N 092°12′01.1111″ W
|  | • 46°41′38.6133″ N 092°11′59.4509″ W
|  | • 46°41′38.3046″ N 092°11′57.7306″ W
|  | • 46°41′37.2472″ N 092°11′53.6615″ W
|  | • 46°41′36.1915″ N 092°11′49.7903″ W
|  | • 46°41′34.5164″ N 092°11′45.6293″ W
|  | • 46°41′33.5446″ N 092°11′43.9431″ W
|  | • 46°41′30.8242″ N 092°11′43.9684″ W
|  | • 46°41′30.8278″ N 092°11′39.9806″ W
|  | • 46°41′29.1156″ N 092°11′38.2350″ W
|  | • 46°41′27.0671″ N 092°11′37.5149″ W
|  | • 46°41′25.4408″ N 092°11′36.7605″ W
|  | • 46°41′25.0347″ N 092°11′36.5722″ W
|  | • 46°41′22.7528″ N 092°11′36.0788″ W
|  | • 46°41′20.7010″ N 092°11′35.6137″ W
|  | • 46°41′19.6484″ N 092°11′35.5431″ W
|  | • 46°41′19.6484″ N 092°11′35.5431″ W
|  | • 46°41′18.5660″ N 092°11′35.0700″ W
|  | • 46°41′16.5697″ N 092°11′34.5434″ W
|  | • 46°41′14.4790″ N 092°11′33.9685″ W
|  | • 46°41′12.3306″ N 092°11′33.9221″ W
|  | • 46°41′12.7159″ N 092°11′44.4501″ W
|  | • 46°41′02.1240″ N 092°11′44.4501″ W
|  | • 46°41′01.9943″ N 092°11′40.5819″ W
|  | • 46°41′04.0665″ N 092°11′39.1344″ W
|  | • 46°41′03.8696″ N 092°11′36.2223″ W
|  | • 46°41′02.0724″ N 092°11′34.3605″ W
|  | • 46°40′56.9795″ N 092°11′32.1366″ W
|  | • 46°40′55.9436″ N 092°11′32.3531″ W
|  | • 46°40′53.8981″ N 092°11′32.7804″ W
|  | • 46°40′51.2261″ N 092°11′33.1191″ W
|  | • 46°40′48.9634″ N 092°11′33.1528″ W
|  | • 46°40′46.4928″ N 092°11′32.8907″ W
|  | • 46°40′45.2017″ N 092°11′32.5057″ W
|  | • 46°40′42.1916″ N 092°11′38.3025″ W
|  | • 46°40′38.9992″ N 092°11′44.4501″ W
|  | • 46°40′32.6805″ N 092°11′44.4595″ W
|  | • 46°40′28.8937″ N 092°11′44.7158″ W
|  | • 46°40′27.5301″ N 092°11′46.0856″ W
|  | • 46°40′26.6103″ N 092°11′47.3902″ W
|  | • 46°40′26.2216″ N 092°11′48.4650″ W
|  | • 46°40′25.0613″ N 092°11′51.2108″ W

(b) Regulations. In addition to the general Regulated Navigation Area regulations in Subpart B of this Section, all vessels and persons are prohibited from activities that would disturb the integrity of engineered remedies designed to address contaminated sediments at the sites identified above, and further described in the St. Louis River Area of Concern Remedial Action Plan. Such activities may include, but are not limited to anchoring, dragging, spudding, or dredging. The prohibitions in this section shall not supersede restrictions outlined in executed Records of Decision for Superfund sites.

(c) Exemptions.

(1) Public vessels operating in an official capacity. Public vessels are defined as any vessel owned or operated by the United States or by the State or local government.

(2) Any vessel in an emergency situation may deviate from this regulation to the extent necessary to avoid endangering the safety of persons, the environment, and/or property. If deviation occurs, the master or designee shall inform the Coast Guard as soon as it is safe and practicable to do so.

(d) Waivers. The Captain of the Port Duluth may, in consultation with local, state, and Federal agencies or regulated private entities, authorize a waiver from this section if it is determined that activity can be performed without undue risk to environmental remediation construction, monitoring, and maintenance. Requests for waivers should be submitted in writing and at least 120 days prior to the proposed operations to Commander, U.S. Coast Guard Marine Safety Unit, Duluth, 515 West First Street, Room 145, Duluth, MN 55802 to facilitate review by the U.S. Coast Guard.

(e) Penalties. Vessel or persons that violate this section are subject to the penalties set forth in 46 U.S.C. 70036.

(f) Enforcement period. This Regulated Navigation Area is in effect permanently and can be enforced at any time.

(g) Contact information. If you observe violations of the regulations in this section, you may notify the COTP by email, at MSUDuluthWWM@uscg.mil, or by phone, 218-725-3818.

Dated: February 28, 2024.
Jonathan P. Hickey,
Rear Admiral, U.S. Coast Guard, Commander, Ninth Coast Guard District.

[FR Doc. 2024-04841 Filed 3-6-24; 8:45 am]

BILLING CODE 9110-04-P